DEPARTMENT OF EDUCATION

[Docket No.: ED-2022-SCC-0156]

Agency Information Collection Activities; Submission to the Office of Management and Budget for Review and Approval; Comment Request; National Evaluation of Career and Technical Education Under Perkins V

AGENCY: Institute of Education Sciences (IES), Department of Education (ED).

ACTION: Notice.

SUMMARY: In accordance with the Paperwork Reduction Act (PRA) of 1995, the Department is proposing a new information collection request (ICR).

DATES: Interested persons are invited to submit comments on or before May 22, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Michael Fong, 202-245-8407.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Evaluation of Career and Technical Education under Perkins V.

OMB Control Number: 1850-NEW.

Type of Review: A new ICR.

Respondents/Affected Public: State, local, and Tribal governments.

Total Estimated Number of Annual Responses: 260.

Total Estimated Number of Annual Burden Hours: 279.

Abstract: The Strengthening Career and Technical Education for the 21st Century Act (Perkins V) mandates a national evaluation of career and technical education (CTE) to examine key aspects of CTE across the nation, including CTE policy and program implementation, participation and outcomes, and effectiveness. This new data collection will consist of two surveys that will be conducted in 2023 to collect information about CTE policy and program implementation: (1) a survey of all state directors of CTE and (2) a nationally representative sample of district coordinators of CTE.

Dated: April 18, 2023.
Juliana Pearson,
PRA Coordinator, Strategic Collections and Clearance, Governance and Strategy Division, Office of Chief Data Officer, Office of Planning, Evaluation and Policy Development.

[FR Doc. 2023-08490 Filed 4-20-23; 8:45 am]

BILLING CODE 4000-01-P